DEPARTMENT OF COMMERCE

Foreign-Trade Zones Board

[B-41-2025]

Foreign-Trade Zone 163—Ponce, Puerto Rico; Application for Reorganization/Expansion

An application has been submitted to the Foreign-Trade Zones (FTZ) Board by CODEZOL, C.D., grantee of FTZ 163, requesting authority to reorganize and expand FTZ 163 in Ponce, Puerto Rico. The application was submitted pursuant to the provisions of the Foreign-Trade Zones Act, as amended (19 U.S.C. 81a-81u), and the regulations of the FTZ Board (15 CFR part 400). It was formally docketed on August 26, 2025.

FTZ 163 was established by the Board on October 18, 1989 (Board Order 443, 54 FR 46097, November 1, 1989), and expanded on April 18, 2000 (Board Order 1091, 65 FR 24676, April 27, 2000), on June 9, 2005 (Board Order 1397, 70 FR 36117, June 22, 2005), on July 26, 2006 (Board Order 1467, 71 FR 44996, August 8, 2006), on November 9, 2006 (Board Order 1487, 71 FR 67098, November 20, 2006), on June 26, 2009 (Board Order 1631, 74 FR 34306, July 15, 2009), on July 8, 2010 (Board Orders 1692 and 1693, 75 FR 41801, July 19, 2010), on May 24, 2012 (Board Order 1830, 77 FR 32929, June 4, 2012), and on December 13, 2018 (Board Order 2078, 83 FR 65141, December 19, 2018).

FTZ 163 currently consists of thirteen sites (936.984 acres total) in Puerto Rico: Site 1 (269 acres)—located at the Port of Ponce; Site 2 (183.8 acres)—Peerless Oil & Chemicals, Inc. petroleum terminal facilities in Peñuelas and Guaynilla; Site 3 (3 acres)—Hato Rey Distribution Center, located at Angel Buonoma Street #361 and #71, San Juan; Site 4 (14 acres)—Centro Automatriz Santa Rosa, Inc., State Road No. 3, Km 140.1, Guayama; Site 5 (256 acres)—Mercedita Industrial Park, Rt. PR-9 and Las Americas Highway, Ponce; Site 6 (86 acres)—Coto Laurel Industrial Park, Highways PR-56 and PR-52, Ponce; Site 7 (17.2 acres)—Cesar Castillo warehouse, State Road No. 1, Km 21.1, Guaynabo; Site 8 (5 acres)—Ayala Warehouse, Inc., 42 Salmon Street, Ponce; Site 10 (5.83 acres)—Colomer & Suarez, Inc., Centro de Distribucion Playa de Ponce, Building 7, Avenida Santiago de los Caballeros, Ponce; Site 11 (52 acres)—ProCaribe, Road 385, Km 5.4, Bo. Tallaboa, Peñuelas; Site 12 (5.97 acres)—Yaucono Industrial Park, 2822 Las Americas Avenue, Corner Cuatro Calles, Ponce; Site 13 (10 acres)—Rio Piedras Distribution Center, Quebrada Arena Industrial Park, PR Road #1, Km 26.0, San Juan; and, Site 17 (29.184 acres)—Ponce Regional Distribution Center, 3199 Ave. Santiago de los Caballeros, Ponce.

The applicant is requesting authority to expand Site 1 of the zone to include an additional 93.91 acres at the Port of Ponce. The applicant is also requesting to remove Site 6 from the zone. No authorization for production activity is being requested at this time. Such requests would be made to the FTZ Board on a case-by-case basis.

In accordance with the FTZ Board's regulations, Camille Evans of the FTZ Staff is designated examiner to evaluate and analyze the facts and information presented in the application and case record and to report findings and recommendations to the FTZ Board.

Public comment is invited from interested parties. Submissions shall be addressed to the FTZ Board's Executive Secretary and sent to: ftz@trade.gov. The closing period for their receipt is October 28, 2025. Rebuttal comments in response to material submitted during the foregoing period may be submitted through November 12, 2025.

A copy of the application will be available for public inspection in the “Online FTZ Information Section” section of the FTZ Board's website, which is accessible via www.trade.gov/ftz.

For further information, contact Camille Evans at Camille.Evans@trade.gov.

Dated: August 26, 2025.
Elizabeth Whiteman,
Executive Secretary.

[FR Doc. 2025-16587 Filed 8-28-25; 8:45 am]

BILLING CODE 3510-DS-P